DEPARTMENT OF ENERGY

DOE Response to Recommendation 2002-3 of the Defense Nuclear Facilities Safety Board, Requirements for the Design, Implementation, and Maintenance of Administrative Controls

AGENCY: Department of Energy.

ACTION: Notice.

SUMMARY: The Defense Nuclear Facilities Safety Board Recommendation 2002-3, concerning the requirements for the design, implementation, and maintenance of administrative controls at Department of Energy Defense Nuclear Facilities was published in the Federal Register on December 20, 2002 (67 FR 77963). In accordance with section 315(b) of the Atomic Energy Act of 1954, as amended, 42 U.S.C. 2286d(b), the Secretary transmitted the following response to the Defense Nuclear Facilities Safety Board on January 31, 2003.

DATES: Comments, data, views, or arguments concerning the Secretary's response are due on or before March 3, 2003.

ADDRESSES: Send comments, data, views, or arguments concerning the Secretary's response to: Defense Nuclear Facilities Safety Board, 625 Indiana Avenue, NW., Suite 700, Washington, DC 20004.

FOR FURTHER INFORMATION CONTACT: Beverly Cook, Assistant Secretary. Office of Environment, Safety, and Health, Department of Energy, 1000 Independence Avenue, SW., Washington, DC 20585.

Issued in Washington, DC on February 3, 2003.
Mark B. Whitaker, Jr.,
Departmental Representative to the Defense Nuclear Facilities Safety Board.

The Secretary of Energy

Washington, DC 20585

January 31, 2003.

The Honorable John T. Conway, Chairman, Defense Nuclear Facilities Safety Board, 625 Indiana Avenue, NW., Suite 700, Washington, DC 20004

Dear Mr. Chairman: The Department of Energy (Department) acknowledges receipt of the Defense Nuclear Facilities Safety Board's (Board) Recommendation 2002-3, Requirements for the Design, Implementation, and Maintenance of Administrative Controls. Recommendation 2002-3 was issued on December 11, 2002 and published in the Federal Register on December 20, 2002. The Department agrees that we must assure the critical assumptions used in defining and analyzing the basis for safe operations are properly developed, appropriately implemented, and effectively preserved. If the critical assumptions depend on administrative controls, we agree those controls should be treated appropriately. Therefore, the Department accepts the recommendation and will develop an implementation plan to respond to the recommendation.

The Department of Energy's (DOE) implementation plan will address how we will review existing DOE requirements and guidance to determine where further consolidation or clarification is needed to assure proper focus on those administrative controls that perform important safety functions similar to safety-class or safety-significant controls. Additionally, the plan will address how we will evaluate safety basis documents to identify administrative controls critical to preventing or mitigating accident consequences. We will strengthen our processes to ensure those critical administrative controls are properly implemented.

I have asked the Assistant Secretary for Environment, Safety and Health, Beverly Cook, to ensure the successful completion of the implementation plan we will develop in response to your recommendation. Mr. Richard Black, Director of the Office of Nuclear and Facility Safety Policy, is the responsible manager for the preparation of the Department's implementation plan.

Sincerely,

Spencer Abraham.

[FR Doc. 03-3374 Filed 2-10-03; 8:45 am]

BILLING CODE 6450-01-P